FEDERAL COMMUNICATION COMMISSION

Schedule Change to Open Meeting, Wednesday, January 30, 2019

January 29, 2019.

Please note that the time of the January Open Meeting of the Federal Communications Commission is rescheduled from 11:00 a.m. to 12:30 p.m.

Due to the Office of Personnel Management's decision to provide a three-hour delayed arrival for federal employees tomorrow morning, the Federal Communications Commission's meeting on Wednesday, January 30, will not begin until 12:30 p.m., ninety minutes later than previously announced.

The Open Meeting will commence in Room TW-C305, at 445 12th Street SW, Washington, DC. As announced on January 23, due to the earlier partial lapse in federal funding, the meeting will consist of announcements only, and the items set forth in the January 3, 2019 Tentative Agenda will not be considered.

While the Open Meeting is open to the public, the FCC headquarters building is not open access, and all guests must check in with and be screened by FCC security at the main entrance on 12th Street. Open Meetings are streamed live at www.fcc.gov/live and can be followed on social media with #OpenMtgFCC.

Federal Communications Commission.
Marlene Dortch,
Secretary.

[FR Doc. 2019-00989 Filed 2-4-19; 8:45 am]

BILLING CODE 6712-01-P